DEPARTMENT OF COMMERCE

National Oceanic and Atmospheric Administration

50 CFR Part 648

[I.D. 020503A]

Fisheries of the Northeastern United States; Spiny Dogfish Fishery; Scoping Process

AGENCY: National Marine Fisheries Service (NMFS), National Oceanic and Atmospheric Administration (NOAA), Commerce.

ACTION: Notice of intent to prepare an environmental impact statement (EIS); notice of scoping meetings; request for comments.

SUMMARY: The Mid-Atlantic and New England Fishery Management Councils (Councils) announce their intention to jointly prepare, in cooperation with NMFS, an EIS in accordance with the National Environmental Policy Act to assess potential effects on the human environment of alternative measures for managing the spiny dogfish (Squalus acanthias) fishery pursuant to the Magnuson-Stevens Fishery Conservation and Management Act (MSFCMA). The Councils are developing Amendment 1 to the Spiny Dogfish Fishery Management Plan (FMP) to address rebuilding targets and timeframes, methods to estimate discard mortality and reduce discarding, the quota allocation scheme, and potentially other management measures as well. This notification announces a public process for determining the scope of issues to be addressed and for identifying the significant issues relating to management of spiny dogfish. The intended effect of this notification is to alert the interested public of the scoping process and to provide for public participation.

DATES: Written comments on the intent to prepare an EIS must be received on or before 5 p.m., local time, April 4, 2003. A public scoping meeting will be held on Monday, March 17, 2003, at 7:00 PM.

ADDRESSES: Written comments on the intent to prepare the EIS and requests for the scoping document or other information should be directed to Mr. Daniel T. Furlong, Mid-Atlantic Fishery Management Council, Room 2115 Federal Building, 300 S. New St., Dover, DE 19904, (Phone 302-674-2331). Comments may also be sent via facsimile (FAX) to (302) 674-5399. Comments will not be accepted if submitted by e-mail or Internet.

A scoping hearing will be held at 7:00 PM on March 17, 2003 at the Sheraton Oceanfront Hotel (36th Street & Atlantic Ave.), in Virginia Beach, VA.

FOR FURTHER INFORMATION CONTACT: Mr. Daniel T. Furlong, Mid-Atlantic Fishery Management Council, telephone (302) 674-2331.

SUPPLEMENTARY INFORMATION:

Fishery Management Unit

The management unit is all Atlantic spiny dogfish (Squalus acanthias) in U.S. waters in the western Atlantic Ocean.

Problems Discussed For this Amendment

1. Define a rebuilding biomass target and age

composition

Currently, there is no rebuilding target for the spiny dogfish stock because the rebuilding target established in the original FMP was disapproved. It will be necessary to establish a new target that will identify the stock size that corresponds to a recovered spiny dogfish stock as defined under the MSFCMA. Examples of rebuilding targets are BMSY (population biomass (B) that supports Maximum Sustainable Yield (MSY)) and SSBmax (female Spawning Stock Biomass (SSB) that maximizes recruitment). Additionally, identification of a target age structure for the rebuilt stock has been suggested. Target age compositions proposed thus far include those corresponding to (1) the average from 1980-88 and (2) the average from 1989-93.

2. Choose a rebuilding timeframe consistent with National Standards Guidelines

The National Standards Guidelines of the MSFCMA provide minimum and maximum time limits for rebuilding fish stocks that are classified as overfished. The lower limit of the specified time period for rebuilding is the amount of time that would be required for rebuilding if fishing mortality were eliminated (50 CFR 600.310(e)(4)(ii)(B)(3)). The longest amount of time allowed for rebuilding is the amount of time required to rebuild the stock with no fishing mortality plus one mean generation time. Other potential rebuilding time frames include those consistent with a constant fishing mortality rate of F = 0.03, a constant harvest strategy of 8.8 million pounds, and one mean generation time.

3. Evaluate new methods to estimate discards and discard mortality as well as develop management options to reduce discards in other fisheries

The Dogfish Monitoring Committee concluded at its September 2002 meeting that discard mortality may be compromising the fishery's ability to achieve the FMP objective of rebuilding female spawning stock biomass. The Committee strongly recommended increased observer coverage to allow reliable estimation of discards and additional studies to estimate discard mortality rate by gear type. The mortality of dogfish discarded in other fisheries could be greater than that which will allow stock rebuilding. If this is the case, additional constraints on the fisheries which land and discard dogfish should be considered (e.g., time-area closures).

4. Establish a new quota allocation scheme

The current quota allocation scheme designates 57.9 percent of the annual quota to period 1 (May-October) and 42.1 percent to period 2 (November-April). This scheme may be modified in order to simplify the allocation process and/or distribute harvest more evenly over the course of the year. Alternatives to the current scheme include but are not limited to a 50:50 split between quota periods 1 and 2, alternative seasons (i.e., monthly, bimonthly, quarters), changing the fishing year to be consistent with the calendar year, and adding a provision for overages.

5. Other management concerns

A number of additional management measure changes could be considered in the development of Amendment 1. These modifications could include changing the specification of management measures from an annual to a multiple year approach, adding quota set-asides for biological supply and/or biomedical research, limited access options, establishing a percentage of the quota for research set-asides, allocating the quota regionally or state-by-state, establishing a maximum size or slot sizes, and managing the Northwest Atlantic spiny dogfish resource in cooperation with Canada.

Possible Management Measures

Commercial Fishery Management Measures

Possible management measures for the commercial fishery include:

Discard Monitoring Program | X
Closed seasons | X
Closed areas | X
Regional Quota Allocation | X
Minimum/Maximum Size Limits | X
Trip limits | X
Limited Access | X

Recreational Fishery Management Measures

Possible management measures for the spiny dogfish recreational fishery include:

Discard Monitoring Program | X
Closed seasons | X
Closed areas | X
Minimum/Maximum Size Limits | X
Trip limits | X

Public Scoping Meeting Schedule

A scoping meeting will be held as follows:

7:00 PM March 17, 2003 at Sheraton Oceanfront Hotel, 36th Street & Atlantic Ave. Virginia Beach, VA 23451 Tel: 757-425-9000

Special Accommodations

This meeting is physically accessible to people with disabilities. Requests for sign language interpretation or other auxiliary aids should be directed to Joanna Davis at the Mid-Atlantic Council, telephone (302) 674-2331, at least 5 days prior to the scoping meeting.

Authority: 16 U.S.C. 1801 et. seq.

Dated: February 11, 2003.
Richard W. Surdi,
Acting Director, Office of Sustainable Fisheries, National Marine Fisheries Service.

[FR Doc. 03-3845 Filed 2-14-03; 8:45 am]

BILLING CODE 3510-22-S